DEPARTMENT OF ENERGY

Proposed Subsequent Arrangement

AGENCY: Office of Nonproliferation and Arms Control, Department of Energy.

ACTION: Proposed subsequent arrangement.

SUMMARY: This document is being issued under the authority of the Atomic Energy Act of 1954, as amended. The Department is providing notice of a subsequent arrangement under the Agreement for Cooperation Between the United States of America and the Republic of Kazakhstan Concerning Peaceful Uses of Nuclear Energy and the Agreement for Cooperation Between the Government of the United States of America and the Government of Japan Concerning Peaceful Uses of Nuclear Energy.

DATES: This subsequent arrangement will take effect no sooner than December 22, 2016.

FOR FURTHER INFORMATION CONTACT: Mr. Richard S. Goorevich, Office of Nonproliferation and Arms Control, National Nuclear Security Administration, Department of Energy. Telephone: 202-586-3806 or email: Richard.Goorevich@nnsa.doe.gov.

SUPPLEMENTARY INFORMATION: This subsequent arrangement concerns the retransfer of 26,510,383 g of U.S.-origin enriched uranium oxide (UO2), containing 1,003,443 g of the isotope U-235 (less than five percent enrichment) which is recovered uranium from fuel fabrication scrap, from Ulba Metallurgical Plant in Ust-Kamengorsk, Kazakhstan, to Nuclear Fuel Industries, Ltd. in Minato-Ku, Tokyo, Japan. The material, which has already been retransferred to from Ulba to Nuclear Fuel Industries, Ltd., was to be fabricated into fuel pellets for electric utilities in Japan.

In accordance with section 131a. of the Atomic Energy Act of 1954, as amended, it has been determined that this subsequent arrangement concerning the retransfer of nuclear material of United States origin will not be inimical to the common defense and security of the United States of America.

Dated: November 28, 2016.
For the Department of Energy.
Anne M. Harrington,
Deputy Administrator, Defense Nuclear Nonproliferation.

[FR Doc. 2016-29334 Filed 12-6-16; 8:45 am]

BILLING CODE 6450-01-P